DEPARTMENT OF ENERGY

Federal Energy Regulatory Commission

[Project No. 2576-083]

Northeast Generation Company; Notice of Application and Soliciting Comments

December 14, 2007.

Take notice that Commission staff is providing an additional opportunity for public input into the pending proceeding before the Commission on the following application:

a. Application Type: Shoreline Management Plan.

b. Project No: 2576-083.

c. Date Filed: July 27, 2006.

d. Applicant: Northeast Generation Company (NGC).

e. Name of Project: Housatonic River Hydroelectric Project.

f. Location: The project is located on the Housatonic River, in Fairfield, Litchfield and New Haven Counties, Connecticut.

g. Filed Pursuant to: Federal Power Act, 16 U.S.C. 791(a)-825(r).

h. Applicant Contact: Mr. Robert Gates, Station Manager—Connecticut Hydro, 143 West St., Ext. Suite E , New Milford, CT 06776, (860) 350-66987

i. FERC Contact: Any questions on this notice should be addressed to Isis Johnson at (202) 502-6346, or by e-mail: Isis.Johnson@ferc.gov.

j. Deadline for filing comments and /or motions: January 17, 2008.

As indicated by Commission staff at the public meeting held September 24, 2007, regarding the shoreline management plan for the Housatonic Project, an opportunity will be provided for those members of the public that did not have the opportunity to provide comments. This notice is intended to grant those parties, particularly those residents around Squantz Pond, the opportunity to provide comments on the proposed shoreline management plan filed with the Commission. All comments that have been filed with the Commission in this proceeding are still applicable, so re-filing of comments is not necessary.

All documents (original and eight copies) should be filed with: Kimberly D. Bose, Secretary, Federal Energy Regulatory Commission, DHAC, PJ-12.1, 888 First Street, NE., Washington DC 20426. Please include the project number (2576-083) on any filed comments. Comments may be filed electronically via the Internet in lieu of paper. See, 18 CFR 385.2001(a)(1)(iii) and the instructions on the Commission's Web site under the “e-Filing” link. The Commission strongly encourages electronic filings.

k. Description of Proposal: NGC, licensee for the Housatonic River Project, submitted a Shoreline Management Plan (SMP) as required by the project license. The proposed SMP provides for the maintenance of safe public access to lake shorelines and riverfront lands and waters, as well as for the stewardship and development of shoreline/riverfront areas. The SMP also contains provisions to promote the conservation of land and water-related resources, in addition to promoting education and public awareness of resource protection and management programs. The SMP also includes guidelines for permitting new and existing structures on project lands, and a fee schedule to recover the administrative costs of implementing the permitting program.

l. This filing is available for review at the Commission in the Public Reference Room or may be viewed on the Commission's Web site at www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Filing and Service of Responsive Documents: Any filings must bear in all capital letters the title “COMMENTS”, as applicable, and the Project Number of the particular application to which the filing refers.

Kimberly D. Bose,
Secretary.

[FR Doc. E7-24766 Filed 12-20-07; 8:45 am]

BILLING CODE 6717-01-P